DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 17, 2005.

Interested persons are invited to submit written comments regarding the subject matter of the investigations to the Director, Division of Trade Adjustment Assistance, at the address shown below, not later than October 17, 2005.

The petitions filed in this case are available for inspection at the Office of the Director, Division of Trade Adjustment Assistance, Employment and Training Administration, U.S. Department of Labor, Room C-5311, 200 Constitution Avenue, NW., Washington, DC 20210.

Signed at Washington, DC this 27th day of September 2005.
Timothy Sullivan,
Director, Division of Trade Adjustment Assistance.

Appendix
[58 TAA petitions instituted between 9/12/05 and 9/16/05]
TA-W | Subject firm (petitioners) | Location | Date of institution | Date of petition
57921 | Mohawk Rug and Textiles (State) | Bentonville, AR | 09/12/05 | 09/09/05
57922 | Concentra Network Services (Comp) | Franklin, TN | 09/12/05 | 09/01/05
57923 | Boise Cascade (WRIW) | Independence, OR | 09/12/05 | 09/06/05
57924 | Rutherford Chemical, Ltd. (Wkrs) | Harriman, NY | 09/12/05 | 09/09/05
57925 | Sligh Furniture Co. (Comp) | Holland, MI | 09/12/05 | 09/07/05
57926 | Avery Dennison Corporation (Comp) | Statesville, NC | 09/12/05 | 09/09/05
57927 | Hamtech (Comp) | Big Rapids, MI | 09/12/05 | 09/09/05
57928 | Wabash Alloys (Wkrs) | Wabash, IN | 09/12/05 | 09/09/05
57929 | Sappi Fine Paper, N.A. (PACE) | Muskegon, MI | 09/12/05 | 09/09/05
57930 | Cabinet Ind., Inc. (Wkrs) | Danville, PA | 09/12/05 | 09/08/05
57931 | Geo Specialty Chemicals (State) | Gibbstown, NJ | 09/12/05 | 09/02/05
57932 | Sterling Trimmings Co. (State) | Jersey City, NJ | 09/12/05 | 09/12/05
57933 | Solectron (Comp) | West Palm Beach, FL | 09/12/05 | 09/02/05
57934 | Arkay Plastics Illinois, Inc. (Comp) | Paris, IL | 09/12/05 | 08/25/05
57935 | Jeff Hamilton Collections (State) | Los Angeles, CA | 09/12/05 | 09/01/05
57936 | North American Container Corp. (Comp) | Lawrenceburg, TN | 09/12/05 | 09/01/05
57937 | Continental Bag Company (State) | Crowley, LA | 09/12/05 | 08/25/05
57938 | OAG Worldwide (Wkrs) | Downers Grove, IL | 09/12/05 | 08/31/05
57939 | CMOR Manufacturing, Inc. (State) | Rocklin, CA | 09/12/05 | 08/26/05
57940 | Ruder Systems, Inc. (Wkrs) | Webster, NY | 09/12/05 | 08/19/05
57941 | Ward Product, LLC (IBEW) | Amsterdam, NY | 09/13/05 | 09/06/05
57942 | Ethan Allen Operations, Inc. (Comp) | Dublin, VA | 09/13/05 | 09/09/05
57943 | Henredon Furniture Industries, Inc. (Wkrs) | Morganton, NC | 09/13/05 | 09/13/05
57944 | National Tool and Manufacturing (State) | Kenilworth, NJ | 09/13/05 | 09/12/05
57945 | PolyVision Corporation (GPC) | Clymer, PA | 09/13/05 | 09/08/05
57946 | Acme Gear Co., Inc. (State) | Englewood, NJ | 09/13/05 | 09/13/05
57947 | Laminating Specialties, Inc. (Wkrs) | Warren, RI | 09/13/05 | 08/26/05
57948 | Amkor Technology (State) | Chandler, AZ | 09/14/05 | 09/12/05
57949 | C and W Hosiery (State) | Ft. Payne, AL | 09/14/05 | 09/12/05
57950 | Eastman Wind, Inc. (Wkrs) | Elkhart, IN | 09/14/05 | 09/12/05
57951 | Laymon Hughes Hos., LLC (Comp) | Ft. Payne, AL | 09/14/05 | 09/12/05
57952 | Paramount Cards, Inc. (Comp) | Pawtucket, RI | 09/14/05 | 09/13/05
57953 | Ocean Breeze (State) | Vernon, CA | 09/14/05 | 09/13/05
57954 | Wausau Paper (Comp) | Brokaw, WI | 09/14/05 | 09/14/05
57955 | FCI USA, Inc. (Comp) | Mt. Union, PA | 09/14/05 | 09/14/05
57956 | Modern Vending and Catering (Wkrs) | Jamestown, KY | 09/14/05 | 08/31/05
57957 | Dana Corporation (UAW) | Muskegon Heights, MI | 09/14/05 | 09/12/05
57958 | Sanmina-SCI (Wkrs) | Bothell, WA | 09/15/05 | 09/12/05
57959 | Hewlett-Packard (Comp) | Boise, ID | 09/15/05 | 09/15/05
57960 | Solectron Corp. (State) | Lumberton, NJ | 09/15/05 | 09/14/05
57961 | Holyoke Card Co. (Wkrs) | Springfield, MA | 09/15/05 | 09/14/05
57962 | Steelcase, Inc. (Comp) | Grand Rapids, MI | 09/15/05 | 09/13/05
57963 | Coopervision (State) | Huntington Beach, CA | 09/15/05 | 09/14/05
57964 | Corlett-Turner Company (Comp) | Zeeland, MI | 09/15/05 | 09/02/05
57965 | Volex, Inc. (Comp) | Conover, NC | 09/15/05 | 09/15/05
57966 | IBCC Industries (State) | Rockford, MN | 09/15/05 | 09/15/05
57967 | LXD, Inc. (IBT) | Cleveland, OH | 09/15/05 | 09/08/05
57968 | IBM (Wkrs) | Maumee, OH | 09/15/05 | 09/08/05
57969 | Holm Industries, Inc. (Comp) | Scottsburg, IN | 09/15/05 | 08/31/05
57970 | Kellwood New England (Comp) | Brockton, MA | 09/15/05 | 09/08/05
57971 | Sapko International, Inc. (Wkrs) | Tompkinsville, KY | 09/15/05 | 08/30/05
57972 | ATT Telemarketing Dist. Services (State) | Marietta, GA | 09/15/05 | 09/06/05
57973 | Tower Automotive (UAW) | Kendallville, IN | 09/15/05 | 09/06/05
57974 | Baltrans Global Logistics, LTD. (Wkrs) | Ft. Collins, CO | 09/16/05 | 08/30/05
57975 | TRW Automotive (Wkrs) | Fremont, OH | 09/16/05 | 09/15/05
57976 | Honeywell International, Inc. (Comp) | Lynn Haven, FL | 09/16/05 | 09/13/05
57977 | Carolina Mills, Inc. (Comp) | Maiden, NC | 09/16/05 | 09/15/05
57978 | B.A.G. Corp. (State) | Savoy, TX | 09/16/05 | 09/15/05

[FR Doc. E5-5480 Filed 10-5-05; 8:45 am]

BILLING CODE 4510-30-P